FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than January 23, 2018.

A. Federal Reserve Bank of St. Louis (David L. Hubbard, Senior Manager) P.O. Box 442, St. Louis, Missouri 63166-2034. Comments can also be sent electronically to Comments.applications@stls.frb.org:

1. Chester Porter Trust Fund A, Shepherdsville, Kentucky, Jack Chester Porter, Taylorsville, Kentucky, and Jennifer Elizabeth Porter, Mount Washington, Kentucky, as trustees; to retain voting shares of (1) Crossroads Bancorp, Inc., and thereby retain shares of Peoples Bank, both of Mount Washington, Kentucky and (2) Lake Valley Bancorp, Inc., and thereby retain shares of Peoples Bank, both of Taylorsville, Kentucky.

Board of Governors of the Federal Reserve System, January 3, 2018.
Ann E. Misback,
Secretary of the Board.

[FR Doc. 2018-00148 Filed 1-8-18; 8:45 am]

BILLING CODE 6210-01-P